ENVIRONMENTAL PROTECTION AGENCY

[FRL-7000-4]

Proposed Settlement Agreement, Clean Air Act Citizen Suit

AGENCY: Environmental Protection Agency.

ACTION: Notice of Proposed Settlement Agreement; Request for Public Comment.

SUMMARY: In accordance with section 113(g) of the Clean Air Act, as amended (Act), 42 U.S.C. 7413(g), notice is hereby given of a proposed settlement agreement that was filed with the United States Court of Appeals for the Ninth Circuit by the United States Environmental Protection Agency (EPA) on May 25, 2001, to address a lawsuit filed by the Arizona Mining Association (AMA). AMA filed a petition for review pursuant to section 307(b) of the Act, 42 U.S.C. 7607(b) challenging one of EPA's bases for granting interim, rather than full, approval of the Arizona title V operating permits program. EPA based its interim approval in part on overbroad provisions addressing excess emissions. Thus, EPA provided that to receive full approval, the Arizona Department of Environmental Quality (ADEQ) would need, among other corrections, to modify the excess emissions provisions to be consistent with EPA's title V program regulations (40 CFR part 70). Arizona Mining Association v. EPA, No. 97-70007 (Ninth Cir.).

DATES: Written comments on the proposed settlement agreement must be received by July 25, 2001.

ADDRESSES: Written comments should be sent to Ginger Vagenas, Permits Office (Air-3), Air Division, U.S. Environmental Protection Agency, 75 Hawthorne Street, San Francisco, CA 94105. (415) 744-1252. Copies of the proposed settlement agreement are available from Ms. Vagenas. A copy of the proposed settlement agreement was filed with the Clerk of the United States Court of Appeals for the Ninth Circuit on May 25, 2001.

SUPPLEMENTARY INFORMATION: Under title V of the CAA, EPA promulgated regulations specifying the requirements for state operating permit programs. ADEQ submitted its program to EPA for approval on November 15, 1993. On October 30, 1996, pursuant to section 502(g)of the Act, 42 U.S.C. 7661a(g), EPA granted interim approval of ADEQ's title V permitting program, citing several corrections that ADEQ would have to make before EPA could grant full approval. Included in that list was a requirement that ADEQ revise its excess emissions provisions to be consistent with those set out in EPA's operating permit regulations (40 CFR part 70). AMA objected and sought review of this aspect of EPA's final action.

The proposed settlement agreement provides that, within 9 months of ADEQ's submission of its revised excess emissions rule in the form of a state implementation plan (SIP) revision, EPA will take final action on this submission. Upon execution of this settlement agreement, EPA and AMA will file a joint motion with the Court to stay all proceedings pending EPA's final action on the ADEQ SIP revision. When EPA has taken final action on the SIP revision, the Parties will jointly move to dismiss the petition with prejudice. AMA agrees to promptly petition ADEQ to submit a revision to its title V program removing Rule 310 if EPA takes final action to approve Rule 310 into the SIP.

For a period of thirty (30) days following the date of publication of this notice, the Agency will receive written comments relating to the proposed settlement agreement from persons who were not named as parties or interveners to the litigation in question. EPA or the Department of Justice may withdraw or withhold consent to the proposed settlement agreement if the comments disclose facts or considerations that indicate that such consent is inappropriate, improper, inadequate, or inconsistent with the requirements of the Act. Unless EPA or the Department of Justice determine, following the comment period, that consent is inappropriate, the settlement agreement will be final.

Dated: June 12, 2001.
Richard B. Ossias,
Acting Associate General Counsel.

[FR Doc. 01-15883 Filed 6-22-01; 8:45 am]

BILLING CODE 6560-50-P